DEPARTMENT OF HOMELAND SECURITY

Coast Guard

[Docket No. USCG-2018-1057]

RIN 1625-AA00

Extension of Comment Period for the Safety Zone; Gastineau Channel, Juneau, AK

AGENCY: Coast Guard, DHS.

ACTION: Extension of comment period.

SUMMARY: The United States Coast Guard is extending the comment period for the notice of proposed rulemaking for a safety zone which appeared in the Federal Register on April 2, 2019 (33 CFR 165) for the proposed modification of an existing safety zone for certain waters of the Gastineau Channel in Juneau, AK. The notice of proposed rulemaking is to expand an existing safety zone for certain waters of the Gastineau Channel in order to improve safety of large passenger vessels anchoring within the safety zone. The comment period has been extended an additional 30 days to May 13, 2019.

DATES: Comments and related material must be submitted to the online docket at http://www.regulations.gov or reach the Docket Management Facility on or before May 13, 2019.

ADDRESSES: You may submit comments identified by docket number USCG-2018-1057 using the Federal eRulemaking Portal at https://www.regulations.gov.

FOR FURTHER INFORMATION CONTACT: If you have questions on this notice please contact LT Kristi Sloane, Sector Juneau, Waterways Management Division, U.S. Coast Guard, at telephone number 907-463-2846 or email to D17-SMB-Sector-Juneau-WWM@uscg.mil.

Dated: April 5, 2019.
Stephen R. White,
Captain, U.S. Coast Guard, Captain of the Port, Southeast Alaska.

[FR Doc. 2019-07192 Filed 4-10-19; 8:45 am]

BILLING CODE 9110-04-P